DEPARTMENT OF AGRICULTURE

Agricultural Marketing Service

[Doc. No. AMS-FTPP-21-0075]

Notice of Request for Reinstatement With Revision of Previously Approved Information Collection—United States Warehouse Act

AGENCY: Agricultural Marketing Service, USDA.

ACTION: Notice and request for comments.

SUMMARY: In accordance with the Paperwork Reduction Act of 1995, this notice announces the Agricultural Marketing Service's (AMS) intention to request approval, from the Office of Management and Budget, for a reinstatement with revision to the previously approved information collection under the United States Warehouse Act (USWA).

DATES: Comments must be received by March 28, 2022.

ADDRESSES: Interested persons are invited to submit written comments concerning this proposal. Comments must be submitted via the internet at: http://www.regulations.gov. All comments should reference the document number and the date and page number of this issue of the Federal Register. All comments submitted in response to this proposed rule will be included in the record and the identity of the individuals or entities submitting the comments will be made public on the internet at the address provided above.

FOR FURTHER INFORMATION CONTACT: Dan Schofer, Warehouse and Commodity Management Division, Fair Trade Practices Program, Agricultural Marketing Service, U.S. Department of Agriculture, Room 2055, South Building, STOP 3601, Washington, DC 20250-3601; Telephone: 202-720-0219; Email: dan.schofer@usda.gov.

SUPPLEMENTARY INFORMATION: Title: United States Warehouse Act (USWA).

OMB Number: 0581-0305.

Expiration Date of Approval: October 31, 2021.

Type of Request: Reinstatement with Revision of previously approved information collection.

Abstract: AMS is responsible, as required by the USWA, 7 U.S.C. 869 et seq., to license public warehouse operators that are in the business of storing agricultural products, to examine such federally licensed warehouses and to license qualified persons to sample, inspect, weigh, and classify agricultural products. AMS licenses under the USWA cover approximately half of all commercial grain and cotton warehouse capacities in the United States. The regulations that implement the USWA govern the establishment and maintenance of systems under which documents, including documents of title on shipment, payment, and financing, may be issued, or transferred for agricultural products. Some of these systems and documents issued may be electronic. The regulations are found at 7 CFR 869 et seq.

This information collection allows AMS to effectively administer the regulations, licensing, and electronic provider agreements and related reporting and recordkeeping requirements as specified in the USWA.

The forms in this information collection are used to provide those charged with issuing licenses under the USWA a basis to determine whether the warehouse and the warehouse operator meet application requirements to receive a license, and to determine compliance once the license is issued.

For the following estimated total annual burden on respondents, the formula used to calculate the total burden hours is the estimated average time per response multiplied by the estimated total annual responses.

Estimate of Burden: Public reporting burden for this collection of information is estimated to average 0.46 hours per response, including the time for reviewing instructions, searching existing data sources, gathering and maintaining the data needed, and completing and reviewing the collections of information.

Respondents: Warehouse operators and electronic providers participating in the USWA program.

Estimated Number of Respondents: 3,000.

Estimated Total Annual Responses: 19,011.

Estimated Number of Responses per Respondent: 6.337.

Estimated Total Annual Burden on Respondents: 40,587 hours.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology. Comments may be sent to Dan Schofer at the previously mentioned address in the FOR FURTHER INFORMATION CONTACT section. All comments received will be posted without change, including any personal information provided, at www.regulations.gov and will be included in the record and made available to the public. Furthermore, a summary of all comments received will be included in the request for Office of Management and Budget (OMB) approval.

Erin Morris,
Associate Administrator, Agricultural Marketing Service.

[FR Doc. 2022-01434 Filed 1-24-22; 8:45 am]

BILLING CODE P